DEPARTMENT OF THE INTERIOR

National Park Service

[NPS-WASO-NAGPRA-NPS0038843; PPWOCRADN0-PCU00RP14.R50000]

Notice of Inventory Completion: U.S. Army Garrison Fort Cavazos, Fort Cavazos, TX

AGENCY: National Park Service, Interior.

ACTION: Notice.

SUMMARY: In accordance with the Native American Graves Protection and Repatriation Act (NAGPRA), the U.S. Army Garrison Fort Cavazos (formerly, Fort Hood) has completed an inventory of associated funerary objects and has determined that there is a cultural affiliation between the associated funerary object and Indian Tribes or Native Hawaiian organizations in this notice.

DATES: Repatriation of the associated funerary object in this notice may occur on or after November 8, 2024.

ADDRESSES: Ricky C. Robinson, Archaeologist, Fort Cavazos, Building 4612 Engineer Drive, Fort Cavazos, TX 76544, telephone (254) 287-1092, email ricky.c.robinson2.civ@army.mil.

SUPPLEMENTARY INFORMATION: This notice is published as part of the National Park Service's administrative responsibilities under NAGPRA. The determinations in this notice are the sole responsibility of Fort Cavazos and additional information on the determinations in this notice, including the results of consultation, can be found in the inventory or related records. The National Park Service is not responsible for the determinations in this notice.

Abstract of Information Available

Based on the information available, one associated funerary object is present. The one cultural item, a single bone awl, was removed from Bell County, TX. In 1990, the remains of an adult female individual, along with the partial and fragmentary remains of five other individuals, were removed from site 41BL671 by a University of Texas field school. The individual was discovered in a tightly flexed position and a bone pin was found in the abdominal area. The individuals were documented in a Notice of Inventory Completion published in the Federal Register on August 14, 1995, returned to the Tonkawa Tribe of Indians of Oklahoma, and reburied in the Comanche National Indian Cemetery on post. The bone awl, currently housed in Fort Cavazos' curation facility, was not returned, and was found in Fort Cavazos' archaeological collections in 2021. No known substances were used to treat the associated funerary object.

Cultural Affiliation

Based on the information available and the results of consultation, cultural affiliation is clearly identified by the information available about the cultural item. The site from which the cultural item originates, 41BL671, has been previously identified as being culturally affiliated with the Tonkawa Tribe of Indians of Oklahoma based on oral traditions and historic accounts of their occupation in central Texas and through consultation with representatives of the Tonkawa Tribe of Indians of Oklahoma.

Determinations

Fort Cavazos has determined that:

• The one cultural item described in this notice is reasonably believed to have been placed intentionally with or near individual human remains at the time of death or later as part of the death rite or ceremony.

• There is reasonable connection between the cultural item described in this notice and the Tonkawa Tribe of Indians of Oklahoma.

Requests for Repatriation

Written requests for repatriation of the associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary object in this notice to a requestor may occur on or after November 8, 2024. If competing requests for repatriation are received, Fort Cavazos must determine the most appropriate requestor prior to repatriation. Requests for joint repatriation of the associated funerary object are considered a single request and not competing requests. Fort Cavazos is responsible for sending a copy of this notice to the Indian Tribes and Native Hawaiian organizations identified in this notice.

Authority: Native American Graves Protection and Repatriation Act, 25 U.S.C. 3003, and the implementing regulations, 43 CFR 10.10.

Dated: September 30, 2024.
Melanie O'Brien,
Manager, National NAGPRA Program.

[FR Doc. 2024-23372 Filed 10-8-24; 8:45 am]

BILLING CODE 4312-52-P